DEPARTMENT OF JUSTICE

Notice of Lodging of Amendment To Consent Decree Under the Comprehensive Environmental Response, Compensation and Liability Act

Under 28 CFR 50.7, notice is hereby given that on June 26, 2000, a proposed Amendment No. 1 to the Consent Decree (“Consent Decree Amendment”) in United States v. ASARCO Incorporated, Civil Action No. C91-5528B was lodged with the United States District Court for the Western District of Washington.

In the original Consent Decree in this action, the United States settled claims against ASARCO Inc. (“Asarco”) under the Comprehensive Environmental Response, Compensation, and Liability Act (“CERCLA”) for reimbursement of response costs and implementation of remedial actions in connection with the Asraco Tacoma Smelter, an operable unit of the Commencement Bay Nearshore/Tideflats Superfund Site (“CB N/T Site”) in Ruston and Tacoma, Washington. Since entry of the Consent Decree, Asarco has been implementing the remedial action selected by EPA for the Asarco Tacoma Smelter. Amendment No. 1 adds lump sum stipulated penalties to be incurred by Asarco if it fails to meet certain revised deadlines for performing remedial actions at the Asarco Tacoma Smelter and with respect to sediments in Commencement Bay adjacent to the Smelter. The new stipulated penalties relate to revised deadlines by which Asarco must perform certain remedial actions at and near the Asarco Tacoma Smelter that were negotiated by EPA and Asarco and set forth in a Modification Agreement attached to the Consent Decree Amendment as Appendix A. In addition to delaying the schedule for Asarco's implementation of certain response actions at the Smelter, the Modification Agreement also allows for Asarco to reimburse response costs already incurred by EPA but not yet paid in three installments in 2001, 2002, and 2003, with interest accruing on the unpaid balance. the Modification Agreement also modifies requirements under the Consent Decree in United States v. ASARCO Inc., Civil Action No. C94-5714 (W.D. Wash.), relating to the remediation of the Ruston/North Tacoma Study Area by similarly delaying reimbursement of EPA's response costs with respect to that Decree, but requiring that Asarco increase the number of yards in Ruston and North Tacoma that it performs remedial actions on each year. The Modification Agreement also requires Asarco to treat discharges from the Edwards and City stormwater outfalls into Commencement Bay and to dispose of marine sediments dredged from the marina adjacent to the Smelter under the Smelter site-wide cap if EPA selects such dredging and disposal in its Record of Decision for remediation of Asarco off-shore sediments.

The Department of Justice will receive for a period of thirty (30) days from the date of this publication comments relating to the Consent Decree Amendment. Comments should be addressed to the Assistant Attorney General, Environment and Natural Resources Division, P.O. Box 7611, U.S. Department of Justice, Washington, DC 20044-7611, and should refer to United States v. ASARCO Inc., D.J. Ref. No. 90-11-2-698A.

The Consent Decree Amendment may be examined at the Office of the United States Attorney, 601 Union Street, Suite 5100, Seattle 98101-3903, and at U.S. EPA Region 10, 1200 Sixth Avenue, Seattle, WA 98101. A copy of the Consent Decree Amendment may also be obtained by mail from the Consent Decree Library, P.O. Box 7611, U.S. Department of Justice, Washington, DC 20044-7611. In requesting a copy, please enclose a check in the amount of $4.00 (25 cents per page reproduction cost) payable to the Consent Decree Library.

Joel M. Gross,
Chief, Environmental Enforcement Section, Environment and Natural Resources Division.

[FR Doc. 00-17396 Filed 7-10-00; 8:45 am]

BILLING CODE 4510-15-M